DEPARTMENT OF THE INTERIOR

Office of the Secretary

[145D0102DM DMSN000000.000000 DS10700000 DX.10701.CEN00000]

Proposed Renewal of Information Collection; OMB Control Number 1085-0001, Source Directory of American Indian and Alaska Native Owned and Operated Arts and Crafts Businesses

AGENCY: Indian Arts and Crafts Board, Department of the Interior.

ACTION: Notice and request for comments.

SUMMARY: In compliance with the Paperwork Reduction Act of 1995, the Indian Arts and Crafts Board announces the proposed extension of a public information collection and seeks public comments on the provisions thereof.

DATES: Consideration will be given to all comments received by October 28, 2014.

ADDRESSES: Send your written comments to: Attention—Indian Arts and Crafts Board, U.S. Department of the Interior, 1849 C Street NW., MS-2528 MIB, Washington, DC 20240. If you wish to submit comments by facsimile, the number is (202) 208-5196, or you may send them by email to iacb@ios.doi.gov. Please mention that your comments concern the Source Directory, OMB Control #1085-0001.

FOR FURTHER INFORMATION CONTACT: To request a copy of the information collection request, any explanatory information and related forms, see the contact information provided in the ADDRESSES section above.

SUPPLEMENTARY INFORMATION:

I. Abstract

This notice is for renewal of information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8(d)).

The Source Directory of American Indian and Alaska Native Owned and Operated Arts and Crafts Businesses (Source Directory) is a program of the Indian Arts and Crafts Board that promotes American Indian and Alaska Native arts and crafts. The Source Directory is a listing of American Indian and Alaska Native-owned and-operated arts and crafts businesses that may be accessed by the public on the Indian Arts and Crafts Board's Web site: http://www.doi.gov/iacb.

The service of being listed in this directory is provided free-of-charge to members of federally recognized Tribes. Businesses listed in the Source Directory include American Indian and Alaska Native artists and craftspeople, cooperatives, Tribal arts and crafts enterprises, businesses privately-owned and-operated by American Indian and Alaska Native artists, designers, and craftspeople, and businesses privately-owned and -operated by American Indian and Alaska Native merchants who retail and/or wholesale authentic Indian and Alaska Native arts and crafts. Business listings in the Source Directory are arranged alphabetically by State.

The Director of the Indian Arts and Crafts Board uses this information collected in information collection 1085-0001 to determine whether an individual or business applying to be listed in the Source Directory meets the requirements for listing. If approved, the application will be included in the Source Directory. The Source Directory is updated annually to include new businesses and to update existing information.

To be listed in the Source Directory, interested individuals and businesses must submit: (1) A draft of their business information in a format like the other Source Directory listings, (2) a copy of the individual's or business owner's Tribal enrollment card; and for businesses, proof that the business is organized under Tribal, state, or federal law; and (3) a certification that the business is an American Indian or Alaska Native-owned and-operated cooperative, Tribal enterprise, or nonprofit organization, or that the owner of the enterprise is an enrolled member of a federally recognized American Indian Tribe or Alaska Native group.

The following information is collected in a single-page form that is distributed by the Indian Arts and Crafts Board. Although listing in the Source Directory is voluntary, submission of this information is required for inclusion in the Directory.

Information collected | Reason for collection
Name of business, mailing address, city, zip code (highway location, Indian reservation, etc.), telephone number and e-mail address | To identify the business to be listed in the Source Directory, and method of contact.
Type of organization | To identify the nature of the business entity.
Hours/season of operation | To identify those days and times when customers may contact the business.
Internet Web site address | To identify whether the business advertises and/or sells inventory online.
Social Media | To identify the products that the business produces.
Main categories of products | To identify the products that the business produces.
Retail or wholesale products | To identify whether the business is a retail or wholesale business.
Mail order and/or catalog | To identify whether the business has a mail order and/or catalog.
Price list information, if applicable | To identify the cost of the listed products.
For a cooperative or tribal enterprise, a copy of documents showing that the organization is formally organized under tribal, state or federal law | To determine whether the business meets the eligibility requirement for listing in the Source Directory.
Signed certification that the business is an American Indian or Alaska Native-owned and -operated cooperative, tribal enterprise, or nonprofit organization | To obtain verification that the business is an American Indian or Alaska Native-owned and -operated business.
Copy of the business owner's tribal enrollment card | To determine whether the business owner is an enrolled member of a federally recognized tribe.
Signed certification that the owner of the business is a member of a federally recognized tribe | To obtain verification that the business owner is an enrolled member of a federally recognized tribe.

II. Data

(1) Title: Department of the Interior, Indian Arts and Crafts Board, Source Directory of American Indian and Alaska Native-owned and -operated arts and crafts businesses.

OMB Control Number: 1085-0001.

Current Expiration Date: January 31, 2015.

Type of Review: Information Collection Renewal.

Affected Entities: Business or for-profit; tribes.

Estimated annual number of respondents: 100.

Frequency of responses: Annual.

(2) Annual reporting and recordkeeping burden:

Total annual reporting per response: 15 minutes.

Total number of estimated responses: 100.

Total annual reporting: 25 hours.

(3) Description of the need and use of the information: Submission of this information is required to receive the benefit of being listed in the Indian Arts and Crafts Board Source Directory. The information is collected to determine the applicant's eligibility for the service and to obtain the applicant's name and business address to be added to the online directory.

III. Request for Comments

The Departments invite comments on:

(a) Whether the collection of information is necessary for the proper performance of the functions of the agencies, including whether the information will have practical utility;

(b) The accuracy of the agencies' estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Indian Arts and Crafts Board in Room 2528 of the Main Interior Building, 1849 C Street NW., Washington, DC from 9 a.m. until 3 p.m., Monday through Friday, excluding legal holidays. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Dated: August 21, 2014.
Meridith Z. Stanton,
Director, Indian Arts and Crafts Board.

[FR Doc. 2014-20626 Filed 8-28-14; 8:45 am]

BILLING CODE 4310-4H-P